FEDERAL HOUSING FINANCE BOARD

Sunshine Act Notice; Announcing the Continuation of a Public Hearing on Corporate Governance of the Federal Home Loan Banks

Time and Date: The continuation of the public hearing held on January 23, 2004, is scheduled to begin at 10 a.m. on Tuesday, February 10, 2004.

Place: Board Room, Second Floor, Federal Housing Finance Board, 1777 F Street, NW., Washington, DC 20006.

Status: The entire hearing will be open to the public.

Matters To Be Considered: Corporate Governance of the Federal Home Loan Banks:

The purpose of the hearing is to solicit proposals for both statutory and regulatory reform aimed at enhancing Federal Home Loan Bank governance.

Contact Persons: For general information contact Mary H. Gottlieb, Paralegal Specialist, Office of General Counsel, by telephone at 202/408-2826 or by electronic mail at gottliebm@fhfb.gov. Submit requests to testify and copies of testimony to Thomas D. Casey, Chief Counsel to the Chairman, by telephone at 202/408-2957 or by electronic mail at caseyt@fhfb.gov.

Dated: February 4, 2004.
By the Federal Housing Finance Board.
John Harry Jorgenson,
General Counsel.

[FR Doc. 04-2887 Filed 2-5-04; 3:12 pm]

BILLING CODE 6725-01-U